DEPARTMENT OF THE INTERIOR

Bureau of Ocean Energy Management, Regulation and Enforcement

[Docket ID No. BOEM-2010-0069]

BOEMRE Information Collection Activities: 1010-0081, Operations in the Outer Continental Shelf for Minerals Other Than Oil, Gas, and Sulphur, Submitted for Office of Management and Budget (OMB) Review; Comment Request

AGENCY: Bureau of Ocean Energy Management, Regulation and Enforcement (BOEMRE), Interior.

ACTION: Notice of a renewal of an information collection (1010-0081).

SUMMARY: To comply with the Paperwork Reduction Act of 1995 (PRA), we are notifying the public that we have submitted to OMB an information collection request (ICR) to renew approval of the paperwork requirements in the regulations under 30 CFR 282, Operations in the Outer Continental Shelf for Minerals Other than Oil, Gas, and Sulphur. This notice also provides the public a second opportunity to comment on the paperwork burden of these regulatory requirements.

DATES: Submit written comments by February 28, 2011.

ADDRESSES: Submit comments by either fax (202) 395-5806 or e-mail (OIRA_DOCKET@omb.eop.gov) directly to the Office of Information and Regulatory Affairs, OMB, Attention: Desk Officer for the Department of the Interior (1010-0081). Please also submit a copy of your comments to BOEMRE by any of the means below.

• Electronically: Go to http://www.regulations.gov. In the entry titled, “Enter Keyword or ID,” enter BOEM-2010-0069 then click search. Follow the instructions to submit public comments and view supporting and related materials available for this collection. BOEMRE will post all comments.

• E-mail: cheryl.blundon@boemre.gov. Mail or hand-carry comments to: Department of the Interior; Bureau of Ocean Energy Management, Regulation and Enforcement; Attention: Cheryl Blundon; 381 Elden Street, MS-4024; Herndon, Virginia 20170-4817. Please reference ICR 1010-0081 in your comment and include your name and return address.

FOR FURTHER INFORMATION CONTACT: Cheryl Blundon, Regulations and Standards Branch, (703) 787-1607. You may also contact Cheryl Blundon to obtain a copy, at no cost, of the regulations that require the subject collection of information.

SUPPLEMENTARY INFORMATION:

Title: 30 CFR Part 282, Operations in the Outer Continental Shelf for Minerals Other than Oil, Gas, and Sulphur.

OMB Control Number: 1010-0081.

Abstract: The Outer Continental Shelf (OCS) Lands Act, as amended (43 U.S.C. 1334 and 43 U.S.C. 1337(k)), authorizes the Secretary of the Interior (Secretary) to implement regulations to grant leases of any mineral other than oil, gas, and sulphur to qualified parties. This regulation governs mining operations within the OCS and establishes a comprehensive leasing and regulatory program for such minerals. This regulation has been designed to (1) recognize the differences between the OCS activities associated with oil, gas, and sulphur discovery and development, and those associated with the discovery and development of other minerals; (2) facilitate participation by States directly affected by OCS mining activities; (3) provide opportunities for consultation and coordination with other OCS users and uses; (4) balance development with environmental protection; (5) insure a fair return to the public; (6) preserve and maintain free enterprise competition; and (7) encourage the development of new technology.

The authorities and responsibilities described above are among those delegated to BOEMRE. This ICR addresses the regulations at 30 CFR 282, Operations in the Outer Continental Shelf for Minerals Other than Oil, Gas, and Sulphur. Note that there has been no activity in the OCS for minerals other than oil, gas and sulphur for many years and no information collected. However, because these are regulatory requirements, the potential exists for information to be collected; therefore, we are requesting a renewal of this collection of information.

Assuming one lease to this ICR is mandatory. No questions of a sensitive nature are asked. We protect proprietary information according to the Freedom of Information Act (5 U.S.C. 552) and its implementing regulations (43 CFR 2), 30 CFR 282.5, 282.6, 282.7, and applicable sections of 30 CFR parts 280 and 281.

BOEMRE will use the information required by 30 CFR 282 to determine if lessees are complying with the regulations that implement the mining operations program for minerals other than oil, gas, and sulphur. Specifically, BOEMRE will use the information:

• To ensure that operations for the production of minerals other than oil, gas, and sulphur in the OCS are conducted in a manner that will result in orderly resource recovery, development, and the protection of the human, marine, and coastal environments.

• To ensure that adequate measures will be taken during operations to prevent waste, conserve the natural resources of the OCS, and to protect the environment, human life, and correlative rights.

• To determine if suspensions of activities are in the national interest, to facilitate proper development of a lease including reasonable time to develop a mine and construct its supporting facilities, or to allow for the construction or negotiation for use of transportation facilities.

• To identify and evaluate the cause(s) of a hazard(s) generating a suspension, the potential damage from a hazard(s) and the measures available to mitigate the potential for damage.

• For technical and environmental evaluations which provide a basis for BOEMRE to make informed decisions to approve, disapprove, or require modification of the proposed activities.

Frequency: Monthly, and as a result of situations encountered.

Estimated Number and Description of Respondents: There are no active respondents; therefore, we estimated the potential annual number of respondents to be one.

Estimated Reporting and Recordkeeping “Hour” Burden: The estimated annual hour burden for this ICR is a total of 201 hours. The following table details the individual components and estimated hour burdens. In calculating the burdens, we assumed that respondents perform certain requirements in the normal course of their activities. We consider these to be usual and customary and took that into account in estimating the burden.

Citation 30 CFR 282 | Reporting or recordkeeping requirement | Hour burden | Average number of annual responses | Annual burden hours
|  | Non-hour cost burden
Subpart A—General
4(b); 12(b)Subpar(2)(ii); 12(f)(l), (2); 13(d), (e)(2); 21; 22; 25; 26; 28 | Submit delineation plan, including environmental information, contingency plan, monitoring program, and various requests for approval referred to throughout; submit modifications | 40 | 1 | 40
4(c); 12(c)(2)(ii); 12(f)(l), (2); 13(d), (e)(2); 21; 23; 25; 26; 28 | Submit testing delineation plan, including environmental information, contingency plan, monitoring program, and various requests for approval referred to throughout; submit modifications | 40 | 1 | 40
4(d); 12(d)(2)(ii); 12(f)(1), (2); 13(d), (e)(2); 21; 24; 25; 26; 28 | Submit mining delineation plan, including environmental information, contingency plan, monitoring program, and various requests for approval referred to throughout; submit modifications | 40 | 1 | 40
5 | Request non-disclosure of G&G info | 10 | 1 | 10
Subtotal |  |  | 4 Responses | 130 hours
Subpart B—Jurisdiction and Responsibilities of Director
11(c); 12(c) | Apply for right-of-use and easement | 30 | 1 | 30
11(d); 12(d) | Request consolidation of two or more OCS mineral leases or portions | 1 | 1 | 1
12(f)(1), (h); 20(g), (h) | Request approval of operations or departure from operating requirements | Burden included with applicable operation | 0
13(b), (f)(2); 31 | Request suspension or temporary prohibition or production or operations | 2 | 1 | 2
13(e)(1) | Submit site-specific study plan and results; request payment | 8 | 1 | 8
|  | 1 study x $100,000 = $100,000
14 | Submit “green” response copy of Form MMS-1832 indicating date violations (INCs) corrected | 2 | 1 | 2
Subtotal |  |  | 5 responses | 43 hours
|  | $100,000 non-hour cost burden
Subpart C—Obligations and Responsibilities of Lessees
20(a), (g); 29(i) | Make available all mineral resource or environmental data and information; submit reports and maintain records | Burden included with applicable operation. | 0
20(b) thru (e) | Submit designation of payor, operator, or local representative; submit changes | 1 | 1 | 1
21(d) | Notify BOEMRE of preliminary activities | 1 | 1 | 1
27(b) | Request use of new or alternative technologies, techniques, etc | 1 | 1 | 1
27(c) | Notify BOEMRE of death or serious injury; fire, exploration, or other hazardous event; submit report | 1 | 1 | 1
27(d)(2) | Request reimbursement for furnishing food, quarters, and transportation for BOEMRE representatives (no requests received in many years; minimal burden) | 2 | 1 | 2
27(e) | Identify vessels, platforms, structures, etc. with signs | 1 | 1 | 1
27(f)(2) | Log all drill holes susceptible to logging; submit copies of logs to BOEMRE | 3 | 1 | 3
27(h)(3), (4) | Mark equipment; record items lost overboard; notify BOEMRE | 1 | 1 | 1
29(a) | Submit monthly report of minerals produced | 1 | 1 | 1
29(b), (c) | Submit quarterly status and final report on exploration and/or testing activities | 5 | 1 | 5
29(d) | Submit results of environmental monitoring activities | 5 | 1 | 5
29(e) | Submit marked and certified maps annually or as required | 1 | 1 | 1
29(f) | Maintain rock, minerals, and core samples for 5 years and make available upon request | 1 | 1 | 1
29(g) | Maintain original data and information and navigation tapes as long as lease is in effect and make available upon request | 1 | 1 | 1
29(h) | Maintain hard mineral records and make available upon request | 1 | 1 | 1
Subtotal |  |  | 15 responses | 26 hours
Subpart D—Payments
40 | Submit surety or personal bond | 2 | 1 response | 2 hours
Subpart E—Appeals
50; 15 | File an appeal | Burden exempt under 5 CFR 1320.4(a)(2), (c). | 0
TOTAL BURDEN |  |  | 25 Responses | 201 Hours
|  | $100,000 Non-Hour Cost Burden

Estimated Reporting and Recordkeeping Non-Hour Cost Burden: We have identified one cost burden; § 282.13(e)(1), would require a site-specific study to determine and evaluate hazards that results in a suspension of operation. Since this has not been done to date, BOEMRE estimated that this study would cost approximately $100,000. There are no other non-hour cost burdens associated with the collection of information.

Public Disclosure Statement: The PRA (44 U.S.C. 3501, et seq.) provides that an agency may not conduct or sponsor a collection of information unless it displays a currently valid OMB control number. Until OMB approves a collection of information, you are not obligated to respond.

Comments: Section 3506(c)(2)(A) of the PRA (44 U.S.C. 3501, et seq.) requires each agency “ * * * to provide notice * * * and otherwise consult with members of the public and affected agencies concerning each proposed collection of information * * * ”. Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

To comply with the public consultation process, on September 7, 2010, we published a Federal Register notice (75 FR 54372) announcing that we would submit this ICR to OMB for approval. The notice provided the required 60-day comment period. In addition, § 282.0 provides the OMB control number for the information collection requirements imposed by the 30 CFR 282 regulations. The PRA (5 U.S.C. 1320) informs the public that they may comment at any time on the collection of information and BOEMRE provides the address to which they should send comments. We have received no comments in response to these efforts.

If you wish to comment in response to this notice, you may send your comments to the offices listed under the ADDRESSES section of this notice. The OMB has up to 60 days to approve or disapprove the information collection but may respond after 30 days. Therefore, to ensure maximum consideration, OMB should receive public comments by February 28, 2011.

Public Availability of Comments: Before including your address, phone number, email address, or other personal identifying information in your comment, you should be aware that your entire comment-including your personal identifying information-may be made publicly available at any time. While you can ask us in your comment to withhold your personal identifying information from public review, we cannot guarantee that we will be able to do so.

BOEMRE Information Collection Clearance Officer: Arlene Bajusz (703) 787-1025.

Dated: December 16, 2010.
Doug Slitor,
Acting Chief, Office of Offshore Regulatory Programs.

[FR Doc. 2011-1853 Filed 1-27-11; 8:45 am]

BILLING CODE 4310-MR-P